DEPARTMENT OF ENERGY

Federal Energy Regulatory Commission

[Docket No. EL05-56-000]

Notice of Filing

October 17, 2005.

Connecticut Department of Public Utility Control, Complainant v. Bangor-Hydro Electric Company, Central Maine Power Company, NSTAR Electric & Gas Corporation on behalf of its affiliates: Boston Edison Company, Commonwealth Electric Company, Cambridge Electric Light Company, Canal Electric Company, New England Power Company, Northeast Utilities Service Company on behalf of its operating company affiliates: The Connecticut Light and Power Company, Western Massachusetts Electric Company, Public Service Company of New Hampshire, Holyoke Power and Electric Company, Holyoke Water Power Company, The United Illuminating Company, Vermont Electric Power Company, Central Vermont Public Service Corporation, Green Mountain Power Corporation, Florida Power & Light Company—New England Division, Respondents

Take notice that on October 7, 2005, the Connecticut Department of Public Utility Control (CDPUC or Complainant) and the New England Transmission Owners (Respondents) filed an agreement between the parties setting forth the basis to resolve all issues raised by Complainant in the above-captioned proceeding.

This proceeding involves the CDPUC's complaint filed on January 14, 2005, and amended February 2, 2005, the CDPUC filed a complaint under section 206 of the Federal Power Act, seeking review of provisions of the currently-effective ISO New England Open Access Transmission Tariff governing the time at which capital additions are recovered through the rates for Regional Network Service. On May 19, 2005, Complainant and Respondents filed a joint motion informing the Commission that that they had reached a conceptual agreement on a proposal to address the issues raised by Complainant and requesting that the Commission suspend action in this proceeding to allow time for the development of new tariff language and completion of the stakeholder process. The October 7, 2005 filing is the Complainant's and Respondents' agreement regarding the issues raised by Complainant in this proceeding.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on October 27, 2005.

Magalie R. Salas,
Secretary.

[FR Doc. E5-5834 Filed 10-20-05; 8:45 am]

BILLING CODE 6717-01-P